DEPARTMENT OF JUSTICE

Notice of Lodging of Proposed Consent Decree Under the Resource Conservation and Recovery Act

On April 25, 2017, the Department of Justice lodged a proposed Consent Decree with the United States District Court for the Northern District of New York in the lawsuit entitled United States v. Falcon Petroleum, LLC, RGLL, Inc., and GRJH, Inc., Civil Action No. 1:16-cv-1522.

This settlement resolves the United States' allegations that Falcon Petroleum, LLC, RGLL, Inc., and GRJH, Inc. (“Defendants”) violated the Resource Conservation and Recovery (“Act”) and its implementing regulations set forth at 40 CFR part 280 at eight gas stations in New York, all of which contain underground storage tanks (“tanks”) owned and operated, or owned and leased, by Defendants. The United States' claims against Defendants stem from the company's alleged failure to install overfill protection equipment; perform release detection on tanks and associated piping; equip piping with automatic line leak detectors; perform annual testing of an automatic line leak detector on piping; and maintain adequate records of release detection monitoring.

The proposed Consent Decree resolves these allegations by requiring that Defendants implement injunctive relief valued at approximately $218,000, undertake a Supplemental Environmental Project (“SEP”) valued at approximately $220,000, and pay a $60,000 civil penalty. As part of the injunctive relief, Defendants will install, or upgrade to, fully automated electronic release detection monitoring equipment at seven gas stations in New York. As part of the SEP, Defendants will install a centralized monitoring system in twenty-six stations that span three states: Twenty-three in New York, two in Connecticut and one in New Hampshire. The centralized monitoring system will transmit to and collect at one central location the information gathered at each gas station equipped with the electronic release detection monitoring equipment. This technology will therefore assist Defendants to respond to potential releases and other alarm events.

The publication of this notice opens a period for public comment on the Consent Decree. Comments should be addressed to the Assistant Attorney General, Environment and Natural Resources Division, and should refer to United States v. Falcon Petroleum, LLC, RGLL, Inc., and GRJH, Inc., D.O.J. Ref. No. 90-7-1-09896. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $10.25 (25 cents per page reproduction cost) payable to the United States Treasury. For a paper copy without the exhibits and signature pages, the cost is $6.75.

Robert E. Maher, Jr.,
Assistant Section Chief, Environmental Enforcement Section, Environment and Natural Resources Division.

[FR Doc. 2017-08651 Filed 4-27-17; 8:45 am]

BILLING CODE 4410-15-P